ENVIRONMENTAL PROTECTION AGENCY

[EPA-HQ-OPP-2019-0039; FRL-9989-78]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before April 17, 2019.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov; The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

III. New Active Ingredients

1. EPA Registration Number: 7969-UNA. Docket ID number: EPA-HQ-OPP-2018-0002. Applicant: BASF Corporation, 26 Davis Drive, P.O. Box 13528, Research Triangle Park, North Carolina 27709-3528. Active ingredients: Mefentrifluconazole, Pyraclostrobin, and Fluxapyroxad. Product type: Fungicide. Proposed uses: Beans and peas, citrus, corn seed, field corn, popcorn, and sweet corn, peanut, potato, rapeseed (canola), small grains, sorghum and millet, soybean, and sugar beet. Contact: RD.

2. EPA Registration Number: 7969-UNE. Docket ID number: EPA-HQ-OPP-2018-0002. Applicant: BASF Corporation, 26 Davis Drive, P.O. Box 13528, Research Triangle Park, North Carolina 27709-3528. Active ingredient: Mefentrifluconazole. Product type: Fungicide. Proposed uses: Cereals, citrus, grape, legumes, peanuts, pome fruits, potato, rapeseed (canola), stone fruits, sugar beet, and tree nuts; seed treatment use on buckwheat, corn seed, field corn, popcorn, and sweet corn, millet, oats, rye, sorghum, soybean, triticale, and wheat seeds; turfgrass use sites including golf courses, institutional, commercial, and municipal lawns, parks, cemeteries, and sod farms, nonturfgrass areas (including landscape beds, stands of trees) within recreational turfgrass areas; ornamental use sites (including containers, greenhouses, lathhouses, and shadehouses, outdoor nurseries, including container, bench, flat, plug, bed-grown or field-grown ornamentals), forest and conifer nurseries, and plantations, retail nurseries, and ornamentals found in interiorscapes, golf courses, recreational landscapes, and residential and commercial landscapes. Contact: RD.

3. EPA Registration Number: 7969-UNI. Docket ID number: EPA-HQ-OPP-2018-0002. Applicant: BASF Corporation, 26 Davis Drive, P.O. Box 13528, Research Triangle Park, North Carolina 27709-3528. Active ingredient: Mefentrifluconazole. Product type: Fungicide. Proposed uses: Beans and peas, citrus, corn seed, field corn, popcorn, and sweet corn, peanut, potato, rapeseed (canola), small grains, sorghum and millet, soybean, and sugar beet. Contact: RD.

4. EPA Registration Number: 7969-UNL. Docket ID number: EPA-HQ-OPP-2018-0002. Applicant: BASF Corporation, 26 Davis Drive, P.O. Box 13528, Research Triangle Park, North Carolina 27709-3528. Active ingredient: Mefentrifluconazole. Product type: Fungicide. Proposed uses: Seed treatment on crops: Barley, buckwheat, field corn, popcorn, and sweet corn, millet, oats, rye, sorghum, soybean, triticale, and wheat. Contact: RD.

5. EPA Registration Number: 7969-UNO. Docket ID number: EPA-HQ-OPP-2018-0002. Applicant: BASF Corporation, 26 Davis Drive, P.O. Box 13528, Research Triangle Park, North Carolina 27709-3528. Active ingredient: Mefentrifluconazole and Pyraclostrobin. Product type: Fungicide. Proposed uses: Beans and peas, citrus, corn seed, field corn, popcorn, and sweet corn, peanut, potato, rapeseed (canola), small grains, sorghum and millet, soybean, and sugar beet. Contact: RD.

6. EPA Registration Number: 7969-URR. Docket ID number: EPA-HQ-OPP-2018-0002. Applicant: BASF Corporation, 26 Davis Drive, P.O. Box 13528, Research Triangle Park, North Carolina 27709-3528. Active ingredient: Mefentrifluconazole. Product type: Fungicide. Proposed uses: Beans and peas, citrus, corn seed, field corn, popcorn, and sweet corn, peanut, potato, rapeseed (canola), small grains, sorghum and millet, soybean, and sugar beet. Contact: RD.

7. EPA Registration Number: 59639-EGE. Docket ID number: EPA-HQ-OPP-2018-0038. Applicant: Valent U.S.A. LLC, 1600 Riviera Avenue, Suite 200, Walnut Creek, CA 94596. Product name: V-10417 FS Fungicide. Active ingredient: Fungicide—Ethaboxam at 7.07%, metalaxyl 1.89%, Inpyrfluxam at 4.71%. Proposed use: Seed treatment use on legume vegetable crop group 6, except cowpea and field pea. Contact: RD.

8. EPA Registration Number: 59639-EGG. Docket ID number: EPA-HQ-OPP-2018-0038. Applicant: Valent U.S.A. LLC, 1600 Riviera Avenue, Suite 200, Walnut Creek, CA 94596. Product name: S-2399 Technical Fungicide. Active ingredient: Fungicide—Inpyrfluxam at 97.4%. Proposed uses: Apple, corn (field, pop and sweet), peanut, rice, soybean and sugar beet. Seed treatment uses on legume vegetable crop group 6, cereal grain crop group 15, rapeseed crop subgroup 20A and sugar beet. Contact: RD.

9. EPA Registration Number: 59639-EGN. Docket ID number: EPA-HQ-OPP-2018-0038. Applicant: Valent U.S.A. LLC, 1600 Riviera Avenue, Suite 200, Walnut Creek, CA 94596. Product name: S-2399 2.84 SC Fungicide. Active ingredient: Fungicide—Inpyrfluxam at 31.25%. Proposed uses: Apple, corn (field, pop and sweet), peanut, rice, soybean and sugar beet. Contact: RD.

10. EPA Registration Number: 59639-EGR. Docket ID number: EPA-HQ-OPP-2018-0038. Applicant: Valent U.S.A. LLC, 1600 Riviera Avenue, Suite 200, Walnut Creek, CA 94596. Product name: S-2399 3.2 FS Fungicide. Active ingredient: Fungicide—Inpyrfluxam at 34.05%. Proposed uses: Seed treatment uses on cereal grains crop group 15, legume vegetables crop group 6, rapeseed crop subgroup 20A, and sugar beet. Contact: RD.

Authority: 7 U.S.C. 136 et seq.

Dated: February 27, 2019.
Delores Barber,
Director, Information Technology and Resources Management Division, Office of Pesticide Programs.

[FR Doc. 2019-04973 Filed 3-15-19; 8:45 am]

BILLING CODE 6560-50-P